DEPARTMENT OF THE INTERIOR

Bureau of Land Management

[NV-930-5870-HN; 4-08807]

Request for Nomination of Inholding Properties for Potential Purchase by the Federal Government in the State of Nevada

AGENCY: Bureau of Land Management, Interior.

ACTION: Notice.

SUMMARY: In keeping with the Federal Land Transaction Facilitation Act of 2000 (43 U.S.C. 2303) (FLTFA) this notice seeks the nomination of property for possible acquisition by the Federal government. The Notice also provides information on the procedures for (1) identification, by State, of inholding and other non-Federal properties as to which the landowners have indicated a desire to sell the land or interest therein to the United States; and (2) establishing a priority system for the acquisition of such properties.

DATES: Nominations under the FLTFA in Nevada are being considered in conjunction with nominations under Section 5 of the Southern Nevada Public Land Management Act of 1998 (43 U.S.C. 6901) (SNPLMA). Nominations that were submitted on or before January 9, 2004, under SNPLMA Round 5 will also be considered as nominations under the FLTFA, to the extent consistent with FLTFA requirements. Future nominations will be accepted on an annual basis, with the next call for nominations under SNPLMA/FLTFA Round 6 being tentatively scheduled for September 2004.

ADDRESSES: Nominations should be mailed to BLM Las Vegas Field Office, Attn: Division of Land Sales & Acquisitions, 4701 N. Torrey Pines Drive, Las Vegas, Nevada 89130 (telephone: 702-515-5114).

FOR FURTHER INFORMATION CONTACT: Rex Wells, Program Manager-FLTFA, BLM Nevada State Office (telephone: 775-861-6474; e-mail: Rex_Wells@nv.blm.gov, or Internet: http://www.nv.blm.gov/fltfa).

SUPPLEMENTARY INFORMATION: In accordance with the FLTFA, the Bureau of Land Management (BLM), the Forest Service (FS), the National Park Service (NPS) and the Fish and Wildlife Service (FWS) (collectively, the “Agencies”) are offering to the public at large this opportunity to nominate lands in the State of Nevada, meeting FLTFA eligibility requirements, for possible Federal acquisition. Any individual, group or government body may make a nomination of such lands. The BLM has assumed the lead agency role for the public notice process regarding the nomination of eligible properties. The following lands are eligible for nomination: (1) Inholdings within a Federally Designated Area; or (2) Other non-federal lands having a common boundary with a Federally Designated Area that contain Exceptional Resource Values.

An Inholding is any right, title, or interest held by a non-Federal entity, in or to a tract of land that lies within the boundary of a Federally Designated Area.

A Federally Designated Area is an area, in existence on July 25, 2000, set aside for special management, as for example, a national park, a national wildlife refuge, a BLM research natural area, a wilderness area established under the Wilderness Act, or a unit of the Wild and Scenic Rivers System. If you are not sure of whether a particular area meets the statutory definition in FLTFA, of a Federally Designated Area, you should consult the statute or contact the BLM as provided above.

An Exceptional Resource is a resource of scientific, natural, historic, cultural or recreational value that has been documented by a Federal, State or local government authority, and for which there is a compelling need for conservation and protection under the jurisdiction of a Federal agency in order to maintain the resource for the benefit of the public.

The Agencies will only consider an eligible nomination if:

(1) There is a willing seller (written confirmation from a landowner of his/her desire to sell);

(2) A Federal land use plan calls for its acquisition;

(3) The land does not contain a hazardous substance or is not otherwise contaminated, and would not be difficult or uneconomic to manage as Federal land; and,

(4) Acceptable title can be conveyed in accordance with Federal title standards.

The Agencies will assess the nominations for public benefits and rank the nominations in accordance with a jointly prepared State level interagency Implementation Agreement for the SNPLMA and FLTFA, dated June 2004 (Implementation Agreement). The identification of an inholding creates neither an obligation on the part of the landowner to convey the inholding nor any obligation on the part of the United States to acquire the inholding. Land acquisitions by the United States must be at fair market value consistent with applicable provisions of the Uniform Appraisal Standards for Federal Land Acquisitions.

In addition to the state-wide Implementation Agreement for the State of Nevada, the Agencies have signed a national Interagency Memorandum of Understanding (MOU) to carry out their responsibilities under FLTFA. You may obtain detailed information on the MOU, Implementation Agreement, nomination package requirements, and acquisition process by contacting Rex Wells, as provided above.

Robert V. Abbey,
State Director, Nevada.

[FR Doc. 04-18257 Filed 8-9-04; 8:45 am]

BILLING CODE 4310-HC-P